DEPARTMENT OF DEFENSE

Department of the Army

[Docket ID: USA-2022-HQ-0013]

Proposed Collection; Comment Request

AGENCY: U.S. Army Corps of Engineers, Department of Defense (DoD).

ACTION: 60-Day information collection notice.

SUMMARY: In compliance with the Paperwork Reduction Act of 1995, the U.S. Army Corps of Engineers announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 9, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the U.S. Army Corps of Engineers Institute for Water Resources 7701 Telegraph Road, Alexandria, Virginia 22315, ATTN: Mr. Kevin Knight, or call 703-428-7250.

SUPPLEMENTARY INFORMATION:

Title; Associated Form; and OMB Number: U.S. Army Corps of Engineers Navigation Improvement Surveys; OMB Control Number 0710-NAVS.

Needs and Uses: The U.S. Army Corps of Engineers (USACE) operates, maintains, and improves much of the nation's navigation infrastructure. This includes inland navigation infrastructure (locks, dams and channels) and coastal infrastructure (major ports and ship channels). USACE conducts periodic navigation improvement studies to ensure continuity of operations now and into the future. To fully evaluate these studies, USACE needs data on the use of the Nation's waterways, the extent of navigation inefficiencies, and anticipated changes in vessel operations and sizes. This information is used in planning studies to formulate and evaluate the projected benefits and impacts of alternatives. Navigation improvement studies conducted by USACE typically use empirical data provided by the USACE Waterborne Commerce Statistics Center; however, the impacts on waterway traffic of alternative capital and operations and maintenance investment strategies collected by these surveys complements the empirical data.

Affected Public: Businesses or other for-profit.

Annual Burden Hours: 666.67.

Number of Respondents: 1,000.

Responses per Respondent: 1.

Annual Responses: 1,000.

Average Burden per Response: 40 minutes.

Frequency: As required.

The surveys will be administered to shippers, carriers, liner service providers, and commercial fishers who rely on the navigation infrastructure. They will be conducted in-person, by phone, or by mail. The surveys will not be administered electronically. USACE staff or contractors working on navigation feasibility studies will administer the survey by contacting shippers, carriers, liner service providers, and commercial fishers directly by traveling to the study area and meeting workers on site. Phone and mail surveys will also be used sparingly as needed. Respondents of mailed surveys will complete the survey on paper and mail their responses back to USACE or the contractor acting on behalf of USACE.

Dated: June 2, 2022.
Aaron T. Siegel,
Alternate OSD Federal Register Liaison Officer, Department of Defense.

[FR Doc. 2022-12492 Filed 6-9-22; 8:45 am]

BILLING CODE 5001-06-P